DEPARTMENT OF TRANSPORTATION

Maritime Administration

Solicitation of Applications for the Award of Two Maritime Security Program Operating Agreements

AGENCY: Maritime Administration, Department of Transportation.

ACTION: Notice.

SUMMARY: The Maritime Administration (MARAD) requests applications from qualified candidates to enter into Maritime Security Program (MSP) Operating Agreements for the operation of two U.S.-registered merchant vessels in international trade, subject to the availability of appropriations. The MSP maintains a fleet of active, commercially viable, militarily useful, privately-owned U.S.-flagged vessels that are engaged in international trade and are capable of supporting both U.S. economic competitiveness in peacetime and national defense and security requirements in times of conflict or emergency. This request for applications provides, among other things, application criteria and a deadline for submitting applications for vessel enrollment into MSP.

DATES: Applications must be received no later than June 26, 2023.

ADDRESSES: Applications may be submitted in hard copy or electronically. Applications may be submitted electronically to sealiftsupport@dot.gov and in hard copy to the U.S. Department of Transportation, Maritime Administration, Maritime Security Program, Room W25-310, 1200 New Jersey Avenue SE, Washington, DC 20590. Application forms and instructions are available on the MARAD website at https://maritime.dot.gov/national-security/strategic-sealift/maritime-security-program-msp. Applicants with large electronic files should contact Richard Wanerman, Office of Sealift Support by telephone at (202) 366-2306 or email at Richard.Wanerman@dot.gov for large file transfer options.

FOR FURTHER INFORMATION CONTACT: David Hatcher, Director, Office of Sealift Support, Telephone (202) 366-0688. For legal questions, contact Joseph Click, Office of Chief Counsel, Division of Maritime Programs, (202) 366-5882. For military utility questions, contact Tim Boemecke, U.S. Department of Defense, United States Transportation Command, (618) 220-1452.

SUPPLEMENTARY INFORMATION:

Background

46 U.S.C. 53102(a) directs the Secretary of Transportation (Secretary), in consultation with the Secretary of Defense (SecDef), to establish a fleet of active, commercially-viable, militarily-useful, privately-owned, U.S.-registered vessels to meet national defense and other security requirements and to maintain a United States presence in international commercial shipping. In accordance with 46 U.S.C. 53103(d), MARAD may not enter into Operating Agreements for MSP covering more than 60 vessels in any given fiscal year. Payments to participating operators are subject to the availability of appropriations and are limited to the following amounts: $5.3 million per ship for fiscal years (FY) 2023 through 2025; $5.8 million per ship for FYs 2026 through 2028; $6.3 million per ship for FYs 2029 through 2031; and $6.8 million per ship for FYs 2032 through 2035.

On January 1, 2021, Congress established the Tanker Security Program (TSP) in section 3511(a) of the National Defense Authorization Act for FY 2021 (NDAA FY 21) (Pub. L. 116-283) (codified at 46 U.S.C. 53401-12), directing the Secretary and SecDef to establish a substantially-similar program to MSP for product tankers. NDAA FY 21 Sec. 3511(c)(3) further directed the Secretary to approve any applications for TSP from any MSP Operating Agreement holders that operated product tank vessels under MSP Operating Agreements at the time of NDAA FY 21's enactment. MARAD subsequently published the Tanker Security Program Application Solicitation in the Federal Register on December 9, 2022 (87 FR 75688-89), and received an application on January 31, 2023, from the sole operator of the two product tankers in MSP to operate them under TSP.

Under 46 CFR 296.24(a), MARAD seeks to ensure that MSP Operating Agreement holders operate the maximum number of statutorily authorized vessels under MSP Operating Agreements at any given time. The maximum number is currently fixed at 60 vessels by 46 U.S.C. 53103(d). As the TSP application of January 31, 2023, will create two vacancies in the MSP fleet during FY 2023, MARAD is publishing this solicitation pursuant to 46 U.S.C. 53103(c) and 46 CFR 296.24 to select up to two eligible vessels from qualified applicants to operate in MSP and to award two MSP Operating Agreements to cover their operation (one agreement per vessel). MARAD expects to enter into MSP Operating Agreements with successful applicants as soon as practicable following the commencement of TSP. Consistent with the National Security Requirements section below, successful applicants will be required to make their commercial transportation resources available upon request by SecDef during times of war or national emergency.

Application Criteria

46 U.S.C. 53103(c) and 46 CFR 296.24(a)(1)-(a)(3) establish a priority system whereby applications for subsequent award of MSP Operating Agreements are first evaluated on the basis of vessel type, as determined by Department of Defense (DoD) requirements, with secondary consideration based upon the citizenship status of the applicant, as defined in 46 U.S.C. 50501.

Vessel Requirements

Acceptable vessels for these MSP Operating Agreements must meet the requirements of 46 U.S.C. 53102(b) and 46 CFR 296.11. In addition, the Commander, USTRANSCOM, has established DoD general evaluation criteria on the military requirements for eligible MSP vessels. Priority consideration, consistent with the requirements of 46 U.S.C. 53103(c), will be given to applications providing for enrollment of the following vessel types in order of priority:

1. Roll-On/Roll-Off (RO/RO) Vessels.

2. Geared Containerships and Multi-Purpose/Heavy Lift Vessels capable of carrying ammunition.

3. All other vessel types, which will be considered after all applications for the above listed vessel types have been reviewed.

For each individual application, the offered vessel's recognized classification society vessel-type designation will serve as the primary factor in determining the priority category in which the vessel is placed.

National Security Requirements

Successful applicants will be required to enter into an Emergency Preparedness Agreement (EPA) pursuant to 46 U.S.C. 53107 prior to or on the first effective date of the awarded MSP Operating Agreement. The Voluntary Intermodal Sealift Agreement (VISA), as published in Federal Register at 79 FR 64462 (Oct. 29, 2014) and renewed at 84 FR 51710 (Sept. 30, 2019), is the designated EPA for all non-tank vessels operating in MSP.

Documentation

Vessels must be documented in the United States under 46 U.S.C. chapter 121 prior to operation under any MSP Operating Agreement and receipt of any payments under those Operating Agreements. Further, MARAD must receive proof of U.S. Coast Guard vessel documentation and inspection and must approve all relevant charter and management agreements governing the prospective operation of the vessel before the vessel will be eligible to receive MSP payments. If a vessel being offered for consideration by an applicant is not currently registered in the United States, MARAD requires the applicant to provide MARAD with a proposed plan for bringing the vessel under U.S. vessel registration.

Vessel Operation

Vessels operating under MSP Operating Agreements shall be operated exclusively in foreign commerce as defined in 46 U.S.C. 53101(4) or in permissible mixed foreign commerce and domestic trade as provided by 46 U.S.C. 53105(a)(1)(A). Additionally, in accordance with 46 U.S.C. 53105(a)(2), any vessel selected under this solicitation may not engage in trades between points in the United States and its territories, either directly or via a foreign port, notwithstanding 46 U.S.C. 12111(b) & 55101(b).

USMMA Cadet Safe Training Environment Requirements

In accordance with 46 U.S.C. 51307, the operator of any vessel selected under this solicitation must implement and enforce a MARAD-approved plan under 46 U.S.C. 51322 and the Every Mariner Builds A Respectful Culture (EMBARC) program to prevent and respond to sexual assault and harassment against any merchant marine cadet sailing aboard that vessel in fulfillment of their educational requirements. If an applicant currently has a MARAD approved EMBARC plan in place for other vessels it operates at the time it applies under this solicitation, it must state so in its application and describe the steps it has taken to implement the plan on its other vessels. If an applicant does not currently have an EMBARC plan, it must describe the steps it will take to implement and enforce such a plan in the application. If awarded an MSP Operating Agreement, the applicant must fully implement, or be prepared to fully implement, a MARAD approved EMBARC plan onboard the selected vessel prior to the execution of the Operating Agreement and the receipt of payments under it.

Award

MARAD does not guarantee the award of any MSP Operating Agreements in response to applications submitted under this notice. In the event that MARAD does not award any operating agreements or does not select an application for award, MARAD will provide the applicant with a written explanation why the application was denied, consistent with the requirements of 46 U.S.C. 53103(c).

Protection of Confidential Commercial or Financial Information

If the application includes information that the applicant considers to be a trade secret or confidential commercial or financial information (CCFI), the applicant should do the following: (1) Note on the front cover that the submission “Contains Confidential Commercial or Financial Information (CCFI)”; (2) mark each affected page “CCFI” in the header or footer; and (3) highlight or otherwise denote those portions of each page that the applicant considers to contain CCFI. MARAD will protect such information from disclosure to the extent allowed under applicable law. In the event MARAD receives a Freedom of Information Act (FOIA) request for the information, procedures described in the Department's FOIA regulation at 49 CFR 7.29 will be followed. Only information that is ultimately determined to be confidential under that procedure will be exempt from disclosure under FOIA.

(Authority: 46 U.S.C. 53102 and 53103; 46 CFR 296.24; 49 CFR 1.92 and 1.93.)

By Order of the Maritime Administrator.
T. Mitchell Hudson, Jr.,
Secretary, Maritime Administration.

[FR Doc. 2023-11287 Filed 5-25-23; 8:45 am]

BILLING CODE 4910-81-P